DEPARTMENT OF VETERANS AFFAIRS

[OMB Control No. 2900-0049]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 12, 2005.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-2900-0049.”

Send comments and recommendations concerning any aspect of the information collection to VA's OMB Desk Officer, OMB Human Resources and Housing Branch, New Executive Office Building, Room 10235, Washington, DC 20503 (202) 395-7316. Please refer to “OMB Control No. 2900-0049” in any correspondence.

Title:

a. Request for Approval of School Attendance, VA Form 21-674 and 21-674c.

b. School Attendance Report, VA Form 21-674b.

OMB Control Number: 2900-0049.

Type of Review: Revision of a currently approved collection.

Abstract: Recipients of disability compensation, dependency and indemnity compensation, disability pension, and death pension are entitled to benefits for eligible children between the ages of 18 and 23 who are attending school. VA Forms 21-674, 21-674c and 21-674b are used to confirm school attendance of children for whom VA compensation or pension benefits are being paid and to report any changes in entitlement factors, including marriages, a change in course of instruction and termination of school attendance.

An agency may not conduct or sponsor, and a person is not required to respond to a collection of information unless it displays a currently valid OMB control number. The Federal Register Notice with a 60-day comment period soliciting comments on this collection of information was published on April 4, 2005 at page 17146.

Affected Public: Individuals or households.

Estimated Annual Burden:

a. VA Forms 21-674 and 674c—34,500 hours.

b. VA Form 21-674b—3,292 hours.

Estimated Average Burden Per Respondent:

a. VA Forms 21-674 and 674c—15 minutes.

b. VA Form 21-674b—5 minutes.

Frequency of Response: On occasion.

Estimated Number of Respondents:

a. VA Forms 21-674 and 674c—138,000 hours.

b. VA Form 21-674b—39,500 hours.

Dated: August 3, 2005.
By direction of the Secretary.
Denise McLamb,
Program Analyst, Records Management Service.

[FR Doc. E5-4358 Filed 8-11-05; 8:45 am]

BILLING CODE 8320-01-P